FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 22, 2014.

A. Federal Reserve Bank of Atlanta (Chapelle Davis, Assistant Vice President) 1000 Peachtree Street NE., Atlanta, Georgia 30309:

1. CEP Investors in Metropolitan, LP, Seattle, Washington; CEP Investors in Metropolitan's Manager LP, Seattle, Washington; Columbia Equity Capital Partners, LLC, and CEP Advisors, LLC, both of Seattle, Washington; William Dean Donovan, San Francisco, California; Brian Charles Flynn, Jr., Seattle, Washington; and Kevin William Wilson, Virginia Beach, Virginia; to retain and acquire additional voting shares of Metropolitan BancGroup, Inc., Ridgeland, Mississippi, and thereby indirectly retain and acquire additional voting shares of Metropolitan Bank, Crystal Springs, Mississippi.

Board of Governors of the Federal Reserve System, July 2, 2014.
Michael J. Lewandowski,
Associate Secretary of the Board.

[FR Doc. 2014-15865 Filed 7-7-14; 8:45 am]

BILLING CODE 6210-01-P